FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202)-523-5793 or tradeanalysis@fmc.gov.

Agreement No.: 201377.

Agreement Name: CMA CGM/COSCO Brazil—Caribbean U.S. Gulf Vessel Sharing Agreement.

Parties: CMA CGM S.A. and COSCO Shipping Lines Co. Ltd.

Filing Party: Draughn Arbona; CMA CGM (America) LLC.

Synopsis: This Agreement authorizes CMA CGM and COSCO to share vessels with one another and cooperate on a liner service in the Trade between Brazil, Panama, Colombia, Jamaica, Mexico and the U.S. Gulf Coast.

Proposed Effective Date: 2/11/2022.

Location: https://www2.fmc.gov/FMC.Agreements.Web/Public/AgreementHistory/58503.

Agreement No.: 201263-004.

Agreement Name: Maersk/MSC/Zim Cooperative Working Agreement.

Parties: Maersk A/S and MSC Mediterranean Shipping Company SA (acting as a single party); and Zim Integrated Shipping Services Ltd.

Filing Party: Wayne Rohde; Cozen O'Connor.

Synopsis: The amendment: (i) Reduces the number of jointly operated strings from two to one; (ii) sets forth the amount of space to be exchanged under the Agreement; and (iii) provides each party with a greater degree of autonomy with respect to the operation of the strings it provides. The amendment also makes a number of technical amendments, and restates the Agreement.

Proposed Effective Date: 4/2/2022.

Location: https://www2.fmc.gov/FMC.Agreements.Web/Public/AgreementHistory/14256.

Agreement No.: 201356-002.

Agreement Name: PFLG/NPDL Slot Charter Agreement.

Parties: Neptune Pacific Direct Line Pte. Ltd. and Pacific Forum Line (Group) Limited.

Filing Party: David Monroe; GKG Law.

Synopsis: The amendment updates the amount of space being chartered under the Agreement.

Proposed Effective Date: 2/17/2022.

Location: https://www2.fmc.gov/FMC.Agreements.Web/Public/AgreementHistory/39510.

Agreement No.: 201378

Agreement Name: NPDL/PFLG Slot Charter Agreement.

Parties: Neptune Pacific Direct Line Pte. Ltd. and Pacific Forum Line (Group) Limited.

Filing Party: David Monroe; GKG Law.

Synopsis: The purpose of this agreement is to allow NPDL to charter space to PFLG in the relevant trades.

Proposed Effective Date: 2/17/2022.

Location: https://www2.fmc.gov/FMC.Agreements.Web/Public/AgreementHistory/59502.

Dated: February 18, 2022.
William Cody,
Secretary.

[FR Doc. 2022-03955 Filed 2-24-22; 8:45 am]

BILLING CODE 6730-02-P